DEPARTMENT OF TRANSPORTATION

Federal Aviation Administration

Notice of Intent To Rule on Application 03-06-C-00-CLM To Impose and Use the Revenue From a Passenger Facility Charge (PFC) at William R. Fairchild International Airport, Submitted by the Port of Port Angeles, William R. Fairchild International Airport, Port Angeles, WA.

AGENCY: Federal Aviation Administration (FAA), DOT.

ACTION: Notice of intent to rule on application.

SUMMARY: The FAA proposes to rule and invites public comment on the application to impose and use PFC revenue at William R. Fairchild International Airport under the provisions of 49 U.S.C. 40117 and part 158 of the Federal Aviation Regulations (14 CFR part 158).

DATES: Comments must be received on or before May 5, 2003.

ADDRESSES: Comments on this application may be mailed or delivered to triplicate to the FAA at the following address: Mr. J. Wade Bryant, manager; Seattle Airports District Office, SEA-ADO; Federal Aviation Administration; 1601 Lind Avenue SW. Suite 250, Renton, Washington 98055-4056.

In addition, one copy of any comments submitted to the FAA must be mailed or delivered to Mr. Jeffery Robb, Airport Manager, at the following address: PO Box 1350, Port Angeles, WA 98362.

Air Carriers and foreign air carriers may submit copies of written comments previously provided to William R. Fairchild International Airport, under § 158.23 of part 158.

FOR FURTHER INFORMATION CONTACT: Ms. Suzanne Lee-Pang, (425) 227-2654, Seattle Airports District Office, SEA-ADO; Federal Aviation Regulation; 1601 Lind Avenue SW, Suite 250, Renton, Washington 98055-4056. The application may be reviewed in person at this same location.

SUPPLEMENTARY INFORMATION: The FAA proposes to rule and invites public comment on the application 03-06-C-00-CLM to impose and use PFC revenue at William R. Fairchild International Airport, under the provisions of 49 U.S.C. 40117 and part 158 of the Federal Aviation Regulations (14 CFR part 158).

On March 27, 2003, the FAA determined that the application to impose and use the revenue from a PFC submitted by City of Port Angeles, William R. Fairchild International Airport, Port Angeles, Washington, was substantially complete within the requirements of § 158.25 of part 158. The FAA will approve or disapprove the application, in whole or in part, no later than June 28, 2003.

The following is a brief overview of the application.

Level of the proposed PFC: $3.00.

Proposed charge effective date: October 1, 2003.

Proposed charge expiration date: June 1, 2008.

Total requested for use approval: $313,484.

Brief description of proposed project: Drainage System Construction; GA Site Development; Obstruction Removal; Taxiway Restriping and Reflector Installation; Runway 26 Safety Area.

Class or classes of air carriers that the public agency has requested not be required to collect PFC's: none.

Any person may inspect the application in person at the FAA office listed above under FOR FURTHER INFORMATION CONTACT and at the FAA Regional Airports Office located at: Federal Aviation Regulation, Northwest Mountain Region, Airports Division, ANM-600, 1601 Lind Avenue SW., Suite 315, Renton, WA 98055-4056.

In addition, any person may, upon request, inspect the application, a notice and other documents germane to the application in person at the William R. Fairchild International Airport.

Issued in Renton, Washington on March 27, 2003.
David A. Field,
Manager, Planning, Programming and Capacity Branch, Northwest Mountain Region.

[FR Doc. 03-8144 Filed 4-2-03; 8:45 am]

BILLING CODE 4910-13-M